FEDERAL COMMUNICATIONS COMMISSION

Sunshine Act Meeting; Deletion of Agenda Items From September 11, 2007, Open Meeting

September 10, 2007.

The following items have been deleted from the list of Agenda items scheduled for consideration at the September 11, 2007, Open Meeting and previously listed in the Commission's Notice of September 4, 2007. Item No. 8 has been adopted by the Commission.

Item No. | Bureau | Subject
7 | Wireline Competition | Title: Petition of AT&T Inc. for Forbearance Under 47 U.S.C. 160(c) from Title II and Computer Inquiry Rules with Respect to Its Broadband Services; Petition of BellSouth Corporation for Forbearance Under section 47 U.S.C. 160(c) from Title II and Computer Inquiry Rules with Respect to Its Broadband Services (WC Docket No. 06-125); Qwest Petition for Forbearance Under 47 U.S.C. 160(c) from Title II and Computer Inquiry Rules with Respect to Broadband Services; Petition of the Embarq Local Operating Companies for Forbearance Under 47 U.S.C. 160(c) from Application of Computer Inquiry and Certain Title II Common-Carriage Requirements (WC Docket No. 06-147); and Petition of the Frontier and Citizens ILECs for Forbearance Under section 47 U.S.C. 160(c) from Title II and Computer Inquiry Rules with Respect to Their Broadband Services.
|  | Summary: The Commission will consider a Memorandum Opinion and Order concerning requests for forbearance from Title II and Computer Inquiry requirements with respect to certain broadband services.
8 | Wireless Telecommunications | Title: Amendment of Part 101 of the Commission's Rules to Modify Antenna Requirements for the 10.7-11.7 GHz Band (WT Docket No. 07-54, RM-11043); Nextlink Wireless, Inc.; First Avenue Networks, Inc.; Telecom Transport Management Inc.; Conterra Ultra Broadband, LLC; and Petitions for Waiver of sections 101.103 and 101.115 of the Commission's Rules for the Use of Smaller Antennas in the 10.7-11.7 GHz Band.
|  | Summary: The Commission will consider a Report and Order concerning rules governing the use of antennas by Fixed Service operators in the 10.7-11.7 GHz.

Federal Communications Commission.
Marlene H. Dortch,
Secretary.

[FR Doc. 07-4559 Filed 9-11-07; 12:42 pm]

BILLING CODE 6712-01-P